DEPARTMENT OF ENERGY

Federal Energy Regulatory Commission

[Docket No. CP09-419-000]

Tennessee Gas Pipeline Company; Notice of Request Under Blanket Authorization

May 27, 2009.

Take notice that on May 22, 2009, Tennessee Gas Pipeline Company (Tennessee), 1001 Louisiana Street, Houston, Texas 77002, filed a prior notice request pursuant to sections 157.205 and 157.216 of the Commission's regulations under the Natural Gas Act (NGA) and Tennessee's blanket certificate issued in Docket No. CP82-413-000, for authorization to abandon by sale to XTO Offshore Inc. (XTO) a 5.4 mile, 12-inch supply lateral, designated as Line No. 509A-3400, that extends southeasterly from XTO's platform in West Cameron Block 485 and terminates at Stingray Pipeline Company, L.L.C.'s platform in West Cameron Block 509, along with associated metering equipment, two risers, and appurtenances, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Susan T. Halbach, Senior Counsel, Tennessee Gas Pipeline Company, 1001 Louisiana Street, Houston, Texas, 77002, at (713) 420-5751 or (713) 420-1601 (facsimile) or Kathy Cash, Principal Analyst, Certificates & Regulatory Compliance, at (713) 420-3290 or (713) 420-1605 (facsimile).

Any person may, within 60 days after the issuance of the instant notice by the Commission, file pursuant to Rule 214 of the Commission's Procedural Rules (18 CFR 385.214) a motion to intervene or notice of intervention. Any person filing to intervene or the Commission's staff may, pursuant to part 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E9-12863 Filed 6-2-09; 8:45 am]

BILLING CODE 6717-01-P